DEPARTMENT OF AGRICULTURE

Food and Nutrition Service

Agency Information Collection Activities: Proposed Collection; Comment Request—WIC Participant and Program Characteristics Study

AGENCY: Food and Nutrition Service, USDA.

ACTION: Notice.

SUMMARY: In accordance with the Paperwork Reduction Act of 1995, the Food and Nutrition Service (FNS) invites the general public and other public agencies to comment on this proposed information collection. This collection is a new collection for the WIC Participant and Program Characteristics study.

DATES: Written comments on this notice must be received on or before May 8, 2015.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology. Comments may be sent to: Jinee Burdg, Policy Analyst, Office of Policy Support, Food and Nutrition Service, U.S. Department of Agriculture, 3101 Park Center Drive, Room 1014, Alexandria, VA 22302. Comments may also be submitted via fax to the attention of Jinee Burdg at 703-305-2576 or via email to jinee.burdg@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, VA 22302.

All responses to this notice will be summarized and included in the request for Office of Management and Budget approval. All comments will be a matter of public record.

FOR FURTHER INFORMATION CONTACT: Requests for additional information or copies of this information collection should be directed to Jinee Burdg at 703-305-2744.

SUPPLEMENTARY INFORMATION: Title: 2016 & 2018 WIC Participant and Program Characteristics Study.

Form Number: N/A.

OMB Number: 0584-NEW.

Expiration Date: Not yet determined.

Type of Request: New collection.

Abstract: The Special Supplemental Nutrition Program for Women, Infants, and Children (WIC) is administered by the Food and Nutrition Service (FNS) of the U.S. Department of Agriculture (USDA). WIC benefits include nutritious supplemental foods; nutrition education; counseling, including breastfeeding promotion and support; and referrals to health care, social service, and other community providers for pregnant, breastfeeding, and postpartum women, infants, and children up to the age of 5 years. For pregnant women, WIC seeks to improve fetal development and reduce the incidence of low birth weight, short gestation, and anemia through intervention during the prenatal period. For infants and children, WIC seeks to provide nutritious foods during critical times of growth and development in an effort to prevent health problems and to improve the health status of these children.

WIC was established in 1972 by an amendment to the Child Nutrition Act of 1966. WIC is not an entitlement program. To receive WIC benefits, an individual must be categorically eligible: A pregnant, breastfeeding, or postpartum woman; an infant up to the age of 1 year; or a child age 1 through his or her fifth birthday. In addition, each applicant must be found to be income eligible and at nutritional risk. Eligible applicants receive supplemental food, usually in the form of vouchers, checks, or Electronic Benefits Transfer (EBT) cards that allow them to obtain specific types of food (for example, milk, juice, and cereal) from participating retail vendors at no charge.

Since 1988, FNS has produced biennial reports on participant and program characteristics in WIC. This information is used for general program monitoring as well as for managing the information needs of the program. FNS uses this regularly updated WIC information to estimate budgets, submit civil rights reporting, identify needs for research, and review current and proposed WIC policies and procedures. This study will be the 15th and 16th completed in the WIC Participant and Program Characteristics (PC) Study series.

Like all biennial WIC PC reports since 1992, the 2016 and the 2018 reports (PC2016 and PC2018) employ the prototype reporting system developed by FNS in consultation with the Centers for Disease Control and Prevention (CDC) and WIC State Agencies that uses participant information compiled from State WIC administrative records. The reports, including PC2016 and PC 2018, contain information on a census of WIC participants in April of the reporting year, and provide information as summary statistics and maps.

The current system for reporting participant data is based on the automated transfer of an agreed-upon set of data elements. State WIC agencies download routinely collected information from their existing automated client and management information systems. State and local WIC staff use these data to certify applicant eligibility for WIC benefits and to issue food vouchers and checks. This set of 20 agreed-upon items is called the Minimum Data Set (MDS) and was developed by FNS working with the Information Committee of the National WIC Association (formerly the National Association of WIC Directors) and the Centers for Disease Control and Prevention (CDC). This minimum data set will be used for this study. The MDS consists of 20 items, and the Supplemental Data Set (SDS) consists of 11 items. State agencies can provide supplemental data if they are available.

Affected Public: State, Local, or Tribal Government.

Type of Respondents: State WIC Officials.

Estimated Total Number of Respondents: 90.

Frequency of Response: 8 annually.

Estimated Total Annual Responses: 712.

Estimated Time per Respondent and Annual Burden: 31 minutes (0.52 hours). The estimated time of response varies from 3 minutes (0.05 hours) for reminders to 60 minutes (1 hour) for running the reports. The total estimated annual burden is 370 hours.

Affected public/respondents | Data collection activity | Estimated number of respondents | Frequency of response | Total annual responses | Average burden hours per response | Total annual burden estimate (hours)
State WIC Agency Officials (2016) | MDS Reports SDS Reports | 90 86 | 1 1 | 90 86 | 1 1 | 90 86
| Advance/Follow-up Communication | 90 | 1 | 90 | 0.05 | 4.50
| Advance/Follow-up Communication | 90 | 1 | 90 | 0.05 | 4.50
State WIC Agency Officials (2018) | MDS Reports SDS Reports | 90 86 | 1 1 | 90 86 | 1 1 | 90 86
| Advance/Follow-up Communication | 90 | 1 | 90 | 0.05 | 4.50
| Advance/Follow-up Communication | 90 | 1 | 90 | 0.05 | 4.50
Total |  | 90 | 8 | 712 | 0.52 | 370

Dated: February 24, 2015.
Audrey Rowe,
Administrator, Food and Nutrition Service.

[FR Doc. 2015-05312 Filed 3-6-15; 8:45 am]

BILLING CODE 3410-30-P